DEPARTMENT OF LABOR

Employment and Training Administration

[TA-W-51,224]

Olin Corporation, Olin Brass Indianapolis Plant, Indianapolis, IN; Notice of Termination of Investigation

Pursuant to section 221 of the Trade Act of 1974, as amended, an investigation was initiated on March 19, 2003 in response to a petition filed by United Steelworkers of America (USWA), Local 7, Sub District 3, on behalf of workers at Olin Corporation, Olin Brass Indianapolis Plant, Indianapolis, Indiana.

The petitioning group of workers is covered by an active certification issued on May 6, 2002, and remains in effect (TA-W-40,433). Consequently, further investigation in this case would serve no purpose, and the investigation has been terminated.

Signed at Washington, DC, this 14th day of April, 2003.
Linda G. Poole,
Certifying Officer, Division of Trade Adjustment Assistance.

[FR Doc. 03-10342 Filed 4-25-03; 8:45 am]

BILLING CODE 4510-30-P